DEPARTMENT OF ENERGY

Federal Energy Regulatory Commission

Combined Notice of Filings #1

April 8, 2009.

Take notice that the Commission received the following electric rate filings:

Docket Numbers: ER98-2491-015; ER99-2251-009; ER99-2252-010; ER97-705-020.

Applicants: Consolidated Edison Energy, Inc; Consolidated Edison Company of New York; Orange and Rockland Utilities, Inc.; Consolidated Edison Solutions Inc.

Description: Notification of Non-Material Change in Status of Consolidated Edison Energy, Inc.

Filed Date: 04/08/2009.

Accession Number: 20090408-5015.

Comment Date: 5 p.m. Eastern Time on Wednesday, April 29, 2009.

Docket Numbers: ER99-3168-009; ER04-994-005; ER04-659-010; ER04-657-010; ER04-660-010.

Applicants: Mystic Development, LLC, Fore River Development, LLC, Astoria Generating Company, LP, Boston Generating, LLC, Mystic I, LLC.

Description: Notification of Change in Status of Astoria Generating Company, L.P., et al.

Filed Date: 04/08/2009.

Accession Number: 20090408-5044.

Comment Date: 5 p.m. Eastern Time on Wednesday, April 29, 2009.

Docket Numbers: ER00-3039-002.

Applicants: Exeter Energy Limited Partnership.

Description: Exeter Energy Limited Partnership submits revised sheets to its FERC Electric Tariff Original Sheet No 1.

Filed Date: 04/02/2009.

Accession Number: 20090407-0018.

Comment Date: 5 p.m. Eastern Time on Thursday, April 23, 2009.

Docket Numbers: ER05-305-004.

Applicants: Pinelawn Power LLC.

Description: Pinelawn Power, LLC submits market based rate wholesale power sales tariff.

Filed Date: 04/03/2009.

Accession Number: 20090407-0020.

Comment Date: 5 p.m. Eastern Time on Friday, April 24, 2009.

Docket Numbers: ER05-1065-011; OA07-32-008.

Applicants: Entergy Services, Inc.

Description: Entergy Services, Inc submits revised Attachments C, D, and E to its Open Access Transmission Tariff.

Filed Date: 04/03/2009.

Accession Number: 20090407-0549.

Comment Date: 5 p.m. Eastern Time on Friday, April 24, 2009.

Docket Numbers: ER05-1489-002.

Applicants: Craven County Wood Energy Limited Partnership.

Description: Craven County Wood Energy Limited Partnership submits revised sheets to its Market-Based tariff, entitled FERC Electric Tariff Original Sheet 1 etc.

Filed Date: 04/02/2009.

Accession Number: 20090407-0017.

Comment Date: 5 p.m. Eastern Time on Thursday, April 23, 2009.

Docket Numbers: ER09-960-000.

Applicants: Northeast Utilities Service Company.

Description: Northeast Utilities Service Company submits Third Revised Sheet 3205 et al. to FERC Electric Tariff 3 Section II—Open Access Transmission Tariff of the ISO New England Inc.

Filed Date: 04/07/2009.

Accession Number: 20090408-0153.

Comment Date: 5 p.m. Eastern Time on Tuesday, April 28, 2009.

Docket Numbers: ER09-962-000.

Applicants: Xcel Energy Services Inc.

Description: Northern States Power Company submits the proposed termination of Supplement 1 to Firm Power Service Resale Agreement, FERC Rte Schedule 431 between NSP-M and the city of Shakopee.

Filed Date: 04/07/2009.

Accession Number: 20090408-0133.

Comment Date: 5 p.m. Eastern Time on Tuesday, April 28, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-8771 Filed 4-16-09; 8:45 am]

BILLING CODE 6717-01-P